DEPARTMENT OF HOMELAND SECURITY

Transportation Security Administration

Revision of Agency Information Collection Activity Under OMB Review: TSA Customer Comment Card

AGENCY: Transportation Security Administration, DHS.

ACTION: 30-Day Notice.

SUMMARY: This notice announces that the Transportation Security Administration (TSA) has forwarded the Information Collection Request (ICR), Office of Management and Budget (OMB) control number 1652-0030, abstracted below to OMB for a revision of the currently approved collection under the Paperwork Reduction Act (PRA). The ICR describes the nature of the information collection and its expected burden. This collection allows customers to provide feedback to TSA about their experiences with TSA's processes and procedures, to request information or request assistance at the TSA checkpoint, and to report security threats and vulnerabilities.

DATES: Send your comments by December 28, 2017. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Office of Information Technology (OIT), TSA-11, Transportation Security Administration, 601 South 12th Street, Arlington, VA 20598-6011; telephone (571) 227-2062; email TSAPRA@dhs.gov.

SUPPLEMENTARY INFORMATION: TSA published a Federal Register notice, with a 60-day comment period soliciting comments, of the following collection of information on September 26, 2017 (82 FR 44836).

Comments Invited

In accordance with the Paperwork Reduction Act of 1995 (44 U.S.C. 3501 et seq.), an agency may not conduct or sponsor, and a person is not required to respond to, a collection of information unless it displays a valid OMB control number. The ICR documentation will be made available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: TSA Customer Comment Card.

Type of Request: Revision of a currently approved collection.

OMB Control Number: 1652-0030.

Forms(s): NA.

Affected Public: Travelling public.

Abstract: The ICR is a voluntary program for airport passengers to provide feedback to TSA regarding their experiences with TSA. The collection of information allows TSA to evaluate and address customer concerns about security procedures and policies.

TSA Customer Comment Cards collect feedback, compliments, and complaints and the passenger may voluntarily provide contact information. TSA uses the contact information to respond to the passenger's comments. For passengers who deposit their cards in the designated drop-boxes, TSA staff at airports collect the cards, categorize comments, enter the results into an online system for reporting, and respond to passengers as appropriate.

In addition, passengers may reach the TSA Contact Center (TCC) online at www.tsa.gov/contact/contact-forms. This site provides electronic forms of the comment card and are intended for the same purpose; to allow passengers to provide feedback to TSA regarding their experiences with TSA security procedures. Passengers may also use the electronic form to file Disability or Civil Rights and Liberties complaints. TCC provides a receipt to any person who submits an electronic form. The information obtained from the electronic forms allows TSA to evaluate and address customer concerns about security procedures and policies with an electronic interface.

TSA is revising the collection to add three new electronic forms: Request for Assistance, Request for Information, and Security Issue. The Request for Assistance electronic form allows passengers to request assistance at the TSA checkpoint as part of the TSA Cares Program. This program was developed for passengers with disabilities, medical conditions, and other special circumstances who may need additional assistance during the security screening process. The program is available to all members of the public and is separate from the Military Severely Injured Joint Support Operations Center (MSIJSOC) and the Travel Protocol Office (TPO) programs which support and facilitate the movement of wounded warriors, severely injured military personnel, veterans and other travelers requiring an escort through the airport security screening process. The Request for Information electronic form allows passengers to submit an inquiry about TSA policies and procedures such as traveling with medical conditions, prohibited & permitted items, and security screening. The Security Issue electronic form allows passengers to play a critical role in identifying and reporting suspicious activities and threats. TCC will also provide receipts to any person who uses the three new electronic forms. TSA is required to provide a receipt to any person who reports a security problem, deficiency, or vulnerability. See 49 CFR 1503.3(a).

Number of Respondents: An estimated 203,659 respondents annually.

Estimated Annual Burden Hours: An estimated 18,431 hours annually.

Dated: November 22, 2017.
Christina A. Walsh,
TSA Paperwork Reduction Act Officer, Office of Information Technology.

[FR Doc. 2017-25670 Filed 11-27-17; 8:45 am]

BILLING CODE 9110-52-P